DEPARTMENT OF DEFENSE

Department of the Air Force

HQ USAF Scientific Advisory Board

The Commercial Space Technology, Systems Architecture & Policy Panel and Threat Panel Meeting will meet in Kirtland Air Force Base, New Mexico on May 31-June 1, 2001 from 8 a.m. to 5 p.m.

The purpose of the meeting is to receive briefings and discuss the direction of the study. This meeting will be closed to the public in accordance with Section 552b(c) of Title 5, United States Code, specifically subparagraphs (1) and (4) thereof.

For further information, contact the HQ USAF Scientific Advisory Board Secretariat at (703) 697-8404.

Janet A. Long,
Air Force Federal Register Liaison Officer.

[FR Doc. 01-13006 Filed 5-22-01; 8:45 am]

BILLING CODE 5001-05-P